DEPARTMENT OF COMMERCE

International Trade Administration

[A-122-838; C-122-839]

Amendment to Antidumping and Countervailing Duty Orders on Certain Softwood Lumber Products from Canada

AGENCY: Import Administration, International Trade Administration, Department of Commerce.

EFFECTIVE DATE: December 20, 2004.

FOR FURTHER INFORMATION CONTACT: John Herrmann at (202) 482-1780, Import Administration, International Trade Administration, U.S. Department of Commerce, 14th Street and Constitution Ave., NW., Washington, DC 20230, or Dean Pinkert at (202) 482-4339, Office of the Chief Counsel for Import Administration, Office of the General Counsel, U.S. Department of Commerce, 14th Street and Constitution Ave., NW., Washington, DC 20230.

SUPPLEMENTARY INFORMATION:

Background

On May 16, 2002, the International Trade Commission (“Commission”) determined that an industry in the United States is threatened with material injury by reason of imports of softwood lumber from Canada found to be subsidized and sold in the United States at less than fair value. Softwood Lumber from Canada, Inv. Nos. 701-TA-414 and 731-TA-928 (Final), USITC Pub. 3509 (May 2002) (“Final Injury Determinations”). On May 22, 2002, the Department published an antidumping duty order and a countervailing duty order on softwood lumber products from Canada. 67 FR 36068, 36070.

The Government of Canada subsequently requested dispute resolution at the World Trade Organization (“WTO”) to consider its claims that the Final Injury Determinations were inconsistent with the WTO Agreement. The matter was entitled “United States Investigation of the International Trade Commission in Softwood Lumber from Canada,” WT/DS277, and was reviewed by a WTO panel. In its final report, the panel found, inter alia, that action by the Commission in connection with its softwood lumber investigation under Title VII of the Tariff Act of 1930, as amended, was not in conformity with the obligations of the United States under the WTO Agreement on Implementation of Article VI of the General Agreement on Tariffs and Trade 1994 and the WTO Agreement on Subsidies and Countervailing Measures. On April 26, 2004, the Dispute Settlement Body (“DSB”) of the WTO adopted the final report of the panel.

After following the preliminary procedures required under section 129 of the URAA, by letter dated July 27, 2004, the United States Trade Representative (“USTR”) requested that the Commission issue a determination under section 129(a)(4) of the URAA that would render the Commission's action not inconsistent with the recommendations and rulings of the DSB. On November 24, 2004, the Commission issued such a determination, concluding that the U.S. softwood lumber industry is threatened with material injury by reason of imports of subsidized and dumped softwood lumber from Canada.

USTR reviewed the Commission's determination under section 129 of the URAA and consulted with the Congressional committees as provided in section 129(a)(5) of the URAA. By letter dated December 10, 2004, USTR notified the Department of the Commission's new determination and requested that it be implemented.

Amendment to Antidumping and Countervailing Duty Orders On Softwood Lumber from Canada

As described above, by letter dated December 10, 2004, USTR notified the Department that the Commission has issued a new determination pursuant to section 129 of the URAA, consistent with the recommendations and rulings of the DSB, which affirms the Commission's original determination that, under section 705(b)(1)(A)(ii) of the Tariff Act of 1930, as amended, the industry in the United States producing softwood lumber products is threatened with material injury by reason of imports of the subject merchandise from Canada. Also pursuant to section 129 of the URAA, the Trade Representative requested that the Department implement the Commission's new determination.

Consequently, the Department hereby amends the antidumping and countervailing duty orders on softwood lumber products from Canada to reflect the issuance and implementation of the above-referenced determination under section 129 of the URAA.

Dated: December 13, 2004.
James J. Jochum,
Assistant Secretary for Import Administration.

[FR Doc. E4-3741 Filed 12-20-04; 8:45 am]

BILLING CODE: 3510-DS-S